DEPARTMENT OF AGRICULTURE

Grain Inspection, Packers and Stockyards Administration

Advisory Committee Meeting

Pursuant to the provisions of section 10(a)(2) of the Federal Advisory Committee Act (Pub. L. 92-463), notice is hereby given of the following committee meeting:

Name: Grain Inspection Advisory Committee.

Date: May 8, 2001.

Place: Hilton Kansas City Airport, 8801 NW 112th Street, Kansas City, MO 64153.

Time: 7:30 a.m.-5 p.m. on May 8, 2001.

Purpose: To provide advice to the Administrator of the Grain Inspection, Packers and Stockyards Administration (GIPSA) with respect to the implementation of the U.S. Grain Standards Act (7 U.S.C. 71 et seq.).

The agenda includes a review and discussion of GIPSA's financial status, biotechnology, component end-use testing, information technology initiatives, the status of the official commodity program, and other related issues concerning the delivery of grain inspection and weighing services to American agriculture.

Public participation will be limited to written statements, unless permission is received from the Committee Chairman to address the Committee orally. Persons, other than members, who wish to address the Committee or submit written statements before or after the meeting, should contact the Administrator, GIPSA, U.S. Department of Agriculture, 1400 Independence Avenue, SW, STOP 3601, Washington, D.C. 20250-3601, telephone (202) 720-0219 or FAX (202) 205-9237.

The meeting will be open to the public. Persons with disabilities who require alternative means of communication of program information or related accommodations should contact Marianne Plaus, telephone (202) 690-3460 or FAX (202) 205-9237.

Dated: April 20, 2001.
David R. Shipman,
Acting Administrator, Grain Inspection, Packers and Stockyards Administration.

[FR Doc. 01-10384 Filed 4-25-01; 8:45 am]

BILLING CODE 3410-EN-P